DEPARTMENT OF HOMELAND SECURITY

Coast Guard

[USCG 2003-14928]

Collection of Information Under Review by Office of Management and Budget (OMB): OMB Control Number 1625-0003, Lifesaving, Report of Recreational-Boating Accident

AGENCY: Coast Guard, DHS.

ACTION: Request for comments.

SUMMARY: In compliance with the Paperwork Reduction Act of 1995, the Coast Guard intends to seek the approval of OMB for the renewal of one Information Collection Request (ICR). The ICR concerns Lifesaving, Report of Recreational-Boating Accident. Before submitting the ICR to OMB, the Coast Guard is inviting comments on it.

DATES: Comments must reach the Coast Guard on or before June 27, 2003.

ADDRESSES: To make sure that your comments and related material do not enter the docket (USCG 2003-14928) more than once, please submit them by only one of the following means:

(1) By mail to the Docket Management Facility, U.S. Department of Transportation (DOT), room PL-401, 400 Seventh Street SW., Washington, DC 20590-0001. Caution: Because of recent delays in the delivery of mail, your comments may reach the Facility more quickly if you choose one of the means described below.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit comments. Persons submitting comments should include their names and addresses, identify this document (USCG 2003-14928), and give the reasons for the comments. Please submit all comments and attachments in an unbound format no larger than 8½ by 11 inches, suitable for copying and electronic filing. Persons wanting acknowledgment of receipt of comments should enclose stamped self-addressed postcards or envelopes.

Information Collection Request

Title: Lifesaving, Report of Recreational-Boating Accident.

OMB Control Number: 1625-0003.

Summary: The information collected from this report helps the Coast Guard to identify possible manufacturers' defects in boats or equipment, develop boat-manufacturing standards, formulate rules on safety, support programs in boating-safety education and awareness, and publish accident statistics.

Need: 46 U.S.C. 6102(a) requires a uniform system for reporting marine casualties with rules prescribing reportable casualties and the manner of reporting. The statute requires States to compile and submit to the Secretary of the Department in which the Coast Guard is operating (who delegated the responsibility to the Commandant) reports, information, and statistics on casualties reported to them. Federal rules (33 CFR 173.55) require the operator of any vessel that is numbered or used for recreational purposes to submit a report on a recreational-boating accident to the State authority where the accident occurred when either—

(a) A person dies;

(b) A person is injured and requires medical treatment beyond first aid;

(c) Damage to the vessel and other property totals $2,000 or more, or there is a complete loss of a vessel; or

(d) A person disappears from the vessel under circumstances that indicate death or injury.

Respondents: Operators of recreational vessels involved in accidents.

Frequency: On occasion.

Burden: The estimated burden is 3,250 hours a year.

Dated: April 21, 2003.
Nathaniel S. Heiner,
Acting Director of Information and Technology.

[FR Doc. 03-10289 Filed 4-25-03; 8:45 am]

BILLING CODE 4910-15-P